COUNCIL ON ENVIRONMENTAL QUALITY

Withdrawal of Final Guidance for Federal Departments and Agencies on Consideration of Greenhouse Gas Emissions and the Effects of Climate Change in National Environmental Policy Act Reviews

AGENCY: Council on Environmental Quality.

ACTION: Notice.

SUMMARY: The Council on Environmental Quality (CEQ) is withdrawing its “Final Guidance for Federal Departments and Agencies on Consideration of Greenhouse Gas Emissions and the Effects of Climate Change in National Environmental Policy Act Reviews,” for which a Notice of Availability was published on August 5, 2016. 81 FR 51866.

DATES: This withdrawal is effective April 5, 2017.

ADDRESSES: This Notice also will be made available on the National Environmental Policy Act (NEPA) Web site (www.nepa.gov), specifically at https://ceq.doe.gov/.

FOR FURTHER INFORMATION CONTACT: Council on Environmental Quality (ATTN: Ted Boling, Associate Director for the National Environmental Policy Act), 730 Jackson Place NW., Washington, DC 20503. Telephone: (202) 395-5750.

SUPPLEMENTARY INFORMATION: Enacted by Congress in 1969, NEPA, 42 U.S.C. 4321 et seq., is this Nation's basic charter for harmonizing our environmental, economic, and social goals, and is a cornerstone of the Nation's efforts to protect the environment. As CEQ explained in its August 5, 2016, Notice of Availability, the withdrawn guidance was not a regulation. Pursuant to Executive Order 13783, “Promoting Energy Independence and Economic Growth,” signed on March 28, 2017, the guidance is being withdrawn for further consideration. The withdrawal of the guidance does not change any law, regulation, or other legally binding requirement. For more information on NEPA and Federal agency compliance with NEPA, please see https://ceq.doe.gov/index.html.

(Authority: 42 U.S.C. 4332, 4342, 4344 and 40 CFR Parts 1500, 1501, 1502, 1503, 1505, 1506, 1507, and 1508)

Issued in Washington, DC, on March 31, 2017.
Mary B. Neumayr,
Chief of Staff, Council on Environmental Quality.

[FR Doc. 2017-06770 Filed 4-4-17; 8:45 am]

BILLING CODE 3225-F7-P